DEPARTMENT OF COMMERCE

International Trade Administration

[A-533-883, A-588-878, and A-549-837]

Glycine From India, Japan, and Thailand: Postponement of Preliminary Determinations in the Less-Than-Fair-Value Investigations

AGENCY: Enforcement and Compliance, International Trade Administration, Department of Commerce.

DATES: Applicable August 21, 2018.

FOR FURTHER INFORMATION CONTACT: Edythe Artman at (202) 482-3931 (India); Madeline Heeren at (202) 482-9179 (Japan); Brian Smith at (202) 482-1766 (Thailand), AD/CVD Operations, Enforcement and Compliance, International Trade Administration, U.S. Department of Commerce, 1401 Constitution Avenue NW, Washington, DC 20230.

SUPPLEMENTARY INFORMATION:

Background

On April 17, 2018, the Department of Commerce (Commerce) initiated less-than-fair-value (LTFV) investigations of imports of glycine from India, Japan, and Thailand.¹ Currently, the preliminary determinations are due no later than September 4, 2018.

¹ See Glycine from India, Japan, and Thailand: Initiation of Less-Than-Fair-Value Investigations, 83 FR 17995 (April 25, 2018) (Initiation Notice).

Postponement of Preliminary Determinations

Section 733(b)(1)(A) of the Tariff Act of 1930, as amended (the Act), requires Commerce to issue the preliminary determination in an LTFV investigation within 140 days after the date on which Commerce initiated the investigation. However, section 733(c)(1)(A) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On June 28, 2018, the petitioners ² submitted a timely request that Commerce postpone the preliminary determinations in these LTFV investigations.³ The petitioners stated that they request postponement to provide adequate time for Commerce to issue supplemental questionnaires, receive responses, and consider rebuttal comments.⁴

² The petitioners are GEO Specialty Chemicals, Inc. and Chattem Chemicals, Inc.

³ See Letter from the petitioners titled “Glycine from India, Japan and Thailand: Request to Extend Deadline for Preliminary Determinations,” dated June 28, 2018.

⁴ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than October 24, 2018. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: August 14, 2018.
Gary Taverman,
Deputy Assistant Secretary for Antidumping and Countervailing Duty Operations, performing the non-exclusive functions and duties of the Assistant Secretary for Enforcement and Compliance.

[FR Doc. 2018-17909 Filed 8-20-18; 8:45 am]

BILLING CODE 3510-DS-P